DEPARTMENT OF HEALTH AND HUMAN SERVICES

Office of Inspector General

Program Exclusions: August 2006

AGENCY: Office of Inspector General, HHS.

ACTION: Notice of program exclusions.

During the month of August 2006, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject, name, address | Effective date
PROGRAM-RELATED CONVICTIONS
ABERGEL-NAHON, SUZANNE | 9/20/2006
MIAMI, FL
ADAM, SALAH | 9/20/2006
MIDLOTHIAN, VA
ADAMSHICK, WILLIAM | 9/20/2006
FORKED RIVER, NJ
BALLOU, ROBERT | 9/20/2006
ROOSEVELT, UT
BENJAMIN, BARBARA | 9/20/2006
EDINA, MN
BRECKENRIDGE, SHELIA | 9/20/2006
WESTERVILLE, OH
BROWN, TAWANA | 9/20/2006
ROOSEVELT, NY
BUSSELMAN, SHERRIE | 2/8/2006
LINCOLN, NE
COCHRAN, KORENA | 9/20/2006
KELLOGG, ID
COLLEY, PHILLIP | 2/8/2006
LINCOLN, NE
CONDRA, BERNICE | 9/20/2006
MAIN, CA
DENNY, BRIAN | 4/12/2005
MINNEAPOLIS, MN
DULEY, DANIEL | 9/20/2006
HAMMOND, IN
FANG, YI | 9/20/2006
ARCADIA, CA
FARRELL, SHELDON | 9/20/2006
FRESNO, CA
FRIEDMAN, VICTOR | 9/20/2006
LONGVIEW, WA
GRITTEN, LYNETTE | 9/20/2006
BAYSHORE, NY
HALICKI, JANET | 9/20/2006
BOARDMAN, OH
HART, ROSE | 9/20/2006
SHERMAN OAKS, CA
HILSENDEGER, DANIEL | 9/20/2006
BILLINGS, MT
IMEX MEDICAL EQUIPMENT & SUPPLIES, LLC | 9/20/2006
SOUTHFIELD, MI
JOBE, TAMI | 9/20/2006
JONESBOROUGH, TN
KESHISHIAN, HOVSEP | 9/20/2006
GLENDALE, CA
KNOX, CECIL | 9/20/2006
ROANOKE, VA
KUNZ, STEVEN | 7/17/2006
FAIRBANKS, AK
LESLIE, LARRY | 9/20/2006
MEMPHIS, TN
LONERGAN, JOHN | 9/20/2006
CLEVELAND, OH
LONG, SYLVIA | 9/20/2006
WAXAHACHIE, TX
LUDAN, DELIA | 9/20/2006
MILLBRAE, CA
LUDAN, JOSE | 9/20/2006
MILLBRAE, CA
MARTINEZ, DEANA | 9/20/2006
PEARL, MS
MASSEY, ANDREW | 9/20/2006
CHAMPLIN, MN
MATTHEWS, JAMES | 9/20/2006
EL DORADO, KS
MATTHEWS, SALLERY | 9/20/2006
COFFEYVILLE, KS
MAY, BILLIE | 9/20/2006
BURR OAK, KS
MAY, LINDA | 9/20/2006
BURR OAK, KS
MENA, DAISY | 9/20/2006
WHITTIER, CA
MESSERLY, TERRY | 9/20/2006
SMELTERVILLE, CA
MEZIL-THOMAS, YOLANDE | 9/20/2006
PETERSBURG, VA
NELSON, STEVE | 9/20/2006
HOBBS, NM
OKON, SAMUEL | 9/20/2006
LAGRANGEVILLE, NY
OKORONKWO, COMFORT | 9/20/2006
DAYTON, TX
OLSON, THELMA | 9/20/2006
GREEN BAY, WI
PAKDELAN, MOHAMMAD | 9/20/2006
VERDES, CA
RIZVI, SYED | 9/20/2006
HEWLETT, NY
ROWSER, BOBBIE | 9/20/2006
ROSEDALE, NY
SHAMEEM, SHAMAIL | 9/20/2006
HUNTINGTON STATION, NY
SHANIDZE, IRAKLY | 9/20/2006
GROSSE POINTE PARK, MI
SHANIDZE, MICHAEL | 9/20/2006
SHERMAN OAKS, CA
SHERIDAN, MICHELLE | 9/20/2006
MANASSA, CO
STACEY, BRICE | 9/20/2006
HELENA, MT
STRAUCH, VERNON | 2/8/2006
ROCHESTER, MN
SWAN, SEUTTER | 9/20/2006
TERRE HAUTE, IN
SWAN, SHELIA | 9/20/2006
PEKIN, IL
THELEN, SHEILA | 9/20/2006
VIROQUA, WI
TOWNSEND, WADE | 9/20/2006
MORGANTOWN, WV
UGARTE, MIGUEL | 9/20/2006
PENSACOLA, FL
VASQUEZ, FRANCISCA | 9/20/2006
NOVATO, CA
VOSPER, TRUDY | 9/20/2006
ROCKY POINT, NY
WALLED, ROSA | 7/5/2006
MIAMI, FL
WEXLER, DAVID | 9/20/2006
WHITE DEER, PA
WILSON, DEONA | 9/20/2006
GRENADA, MS
FELONY CONVICTION FOR HEALTH CARE FRAUD
BARTON, MICHELLE | 9/20/2006
TOOELE, UT
BRADLEY, REGINA | 9/20/2006
TEMPLE, TX
CARMICHAEL, SHAREL | 9/20/2006
WACO, TX
DOUGHERTY, MICHAEL | 9/20/2006
LAKEWOOD, CO
EGGEBRAATEN, MARILYN | 9/20/2006
CASCO, WI
HELMS, JEREMY | 9/20/2006
NEWELL, WV
JACKSON, CARLA | 9/20/2006
MIDDLETOWN, IN
MALLETT, STACIE | 9/20/2006
BYESVILLE, OH
MARCUS, LAURA | 9/20/2006
MANCHESTER, NH
MASTERS, WANITA | 9/20/2006
HOWARD, OH
MITCHELL, RITA | 9/20/2006
BILLINGS, MT
OREM, SUSAN | 9/20/2006
MANVILLE, NJ
POTACCO, PHILIP | 9/20/2006
KINNELON, NJ
REED, JASON | 9/20/2006
NAPOLEON, OH
SAPP, LORI | 9/20/2006
FUQUAY-VARINA, NC
SHACK, DANIEL | 9/20/2006
TITUSVILLE, NJ
TAGANYI, GABRIEL | 9/20/2006
LISBON, OH
TINKHAM, WENDY | 9/20/2006
NEWBURYPORT, MA
TORGERSON, MICHELLE | 9/20/2006
PEKIN, IL
VALENTINE, LYNNE | 9/20/2006
LAKEWOOD, CO
WOLLET, JOYCE | 9/20/2006
CUYAHOGA FALLS, OH
WYATT, KACEE | 9/20/2006
DOWNSVILLE, LA
ZAWAHIR, MEEYAPILLAI | 9/20/2006
TENAFLY, NY
FELONY CONTROL SUBSTANCE CONVICTION
ARNOLD, ARTHUR | 9/20/2006
TYLER, TX
COCHRAN, HEATHER | 9/20/2006
NORMAN, OK
DAYANANDA, DEWUNDARA | 9/20/2006
BLOOMFIELD HILLS, MI
DEANDRA, SUBADRA | 9/20/2006
BLOOMFIELD HILLS, MI
FEINGOLD, JEFFREY | 9/20/2006
ANTHONY, TX
FERRERA, JESSICA | 9/20/2006
CINCINNATI, OH
IVEY, CAROL | 9/20/2006
YANTIS, TX
KISH, BEVERLY | 9/20/2006
AURORA, CO
LOPER, TESSA | 9/20/2006
SUNRAY, TX
MARCUS, EDWARD | 9/20/2006
LAKEWOOD, CO
NORMAN, AUDREY | 9/20/2006
TAMPA, FL
PENNINGTON, SHELLY | 9/20/2006
CAMDEN, AR
POUSH, JOHN | 9/20/2006
BILLINGS, MT
RITTER, KIMBERLY | 9/20/2006
CLAREMONT, NH
STEWART, MISTY | 9/20/2006
AMARILLO, TX
TOLEDO, KAREN | 9/20/2006
SPURGER, TX
UHLIG, CYNTHIA | 9/20/2006
WESTFIELD, NJ
WAGGONER, KIMBERLEY | 9/20/2006
SEGUIN, TX
WEINBERG, MAX | 9/20/2006
GRAND JUNCTION, CO
WEISS, ANDREW | 9/20/2006
MIAMI, FL
WHITED, DAPHNE | 9/20/2006
CANTONMENT, FL
WILLIAMS, MARLENE | 9/20/2006
THORNTON, CO
WRIGHT, KIMBERLY | 9/20/2006
HERNANDO, MS
YAP, PEDRO | 9/20/2006
WARREN, OH
PATIENT ABUSE/NEGLECT CONVICTIONS
ALDABA, REBECCA | 9/20/2006
PERALTA, NM
ANGLEMYER, RICHARD | 9/20/2006
RHINELANDER, WI
BEAVO, ROBERT | 9/20/2006
BATTLE CREEK, MI
BILLINGSLEY, JANICE | 9/20/2006
SANTA MARIA, CA
BROADWAY, DONALD | 9/20/2006
OKLAHOMA CITY, OK
BUSH, COVERSON | 9/20/2006
TEMPLE, TX
CAVES, PEGGY | 9/20/2006
ANTLERS, OK
CITIZEN, JENINE | 9/20/2006
ABBEVILLE, LA
COLEMAN, KIMBERLY | 9/20/2006
N LITTLE ROCK, AR
CROSS, NATALIE | 9/20/2006
YODER, CO
CSEKE, LOUIS | 9/20/2006
FORT COLLINS, CO
DEAL, BERNETTA | 9/20/2006
ALEXANDRIA, LA
FIELDS, PRESTON | 9/20/2006
CANYON COUNTRY, CA
FOWLER, HARRY | 9/20/2006
CONWAY, AR
HALLMARK, KELLY | 9/20/2006
PAULS VALLEY, OK
HARTLEY, DENNIS | 9/20/2006
PERRY, FL
KIRK, JANICE | 9/20/2006
GARY, IN
LYNCH, GUSTANUS | 9/20/2006
DELHI, LA
MOMAH, CHARLES | 9/20/2006
MONROE, WA
PARKS, WILLIAM | 9/20/2006
ENDICOTT, NY
PARSONS, MICHELE | 9/20/2006
NORTH BRANCH, MN
PARSONS, TINA | 9/20/2006
BROOKLYN, NY
SAPP, KRISTY | 9/20/2006
ATLANTA, LA
SLEEZER, NATASHA | 9/20/2006
MORRISON, CO
SMITH, PAMELA | 9/20/2006
BEAUMONT, TX
SMITH, WILLIAM | 9/20/2006
FULTONVILLE, NY
SVOBODA, MARIA | 9/20/2006
ELCAMPO, TX
TAYLOR, ESTERLYNN | 9/20/2006
LAUREL, MD
THOMPSON, BEULAH | 9/20/2006
CUSHING, OK
THOMPSON, BRANDY | 9/20/2006
SHREVEPORT, LA
VAUGHN, BARBARA | 9/20/2006
BLOUNTVILLE, TN
WALL, KATHY | 9/20/2006
WELLSTON, OK
WILLIS, LAURENCE | 9/20/2006
W PALM BEACH, FL
CONVICTION FOR HEALTH CARE FRAUD
DUDLEY-RICHARDSON, LYNETTE | 9/20/2006
BALTIMORE, MD
LICENSE REVOCATION/SUSPENSION/SURRENDER
ALLEN, SHELLY | 9/20/2006
CARROLLTON, TX
ARIDA, EDWARD | 9/20/2006
POMPANO BEACH, FL
ASKEY, JOLYNN | 9/20/2006
PHOENIX, AZ
BADESCU, SMARANDA | 9/20/2006
N HOLLYWOOD, CA
BALICANTA, ALFRED | 9/20/2006
BUSHNELL, FL
BARRETT, DAVID | 9/20/2006
ATHENS, TX
BASSETT, DAVID | 9/20/2006
SILVER SPRING, MD
BATHURST, DAVID | 9/20/2006
APPLE VALLEY, CA
BELL, JIMMIE | 9/20/2006
WACO, TX
BENTLEY, RODNEY | 9/20/2006
GULFPORT, MS
BISHOP, UNISA | 9/20/2006
COLUMBUS, MS
BLAIR, MICHELE | 9/20/2006
BRATTLEBORO, VT
BLAZAK, DAVID | 9/20/2006
MERRILLVILLE, IN
BLODGETT, JOHN | 9/20/2006
LANCASTER, CA
BLY, TERRY | 9/20/2006
CORPUS CHRISTI, TX
BOWMAN, ROSA | 9/20/2006
BEREA, KY
BRADSHAW, ANTHONY | 9/20/2006
PASO ROBLES, CA
BRAZIER, MARY | 9/20/2006
PHOENIX, AZ
BRICKER, ANGELA | 9/20/2006
YORK, PA
BRIGGS, GLORIA | 9/20/2006
HARLINGEN, TX
BROWN, CHARMAINE | 9/20/2006
AVONDALE, AZ
BROWN-DIAZ, COREEN | 9/20/2006
HOLLYWOOD, FL
BUNFILL, DARICE | 9/20/2006
APACHE JUNCTION, AZ
CAPASSO, ANTHONY | 9/20/2006
PALM BAY, FL
CARPENTER, AMBER | 9/20/2006
JACKSON, TN
CASTALANO, TRACEY | 9/20/2006
THIBODAUX, LA
CASTLE, CARLA | 9/20/2006
PEYTON, CO
CAUBLE, KAREN | 9/20/2006
YORKTOWN, TX
CHAPPELL, DEBORAH | 9/20/2006
EMPORIA, VA
CHEWNING, CHARLES | 9/20/2006
EL PASO, TX
CHOI, SEI YOUNG | 9/20/2006
POUGHKEEPSIE, NY
CHURCH, JEANE | 9/20/2006
ATASCADERO, CA
COLON, MARIBEL | 9/20/2006
SAINT ALBANS, VT
CONSOLVER, JAY | 9/20/2006
WEST HILLS, CA
CORRAL, MELISSA | 9/20/2006
MESQUITE, NV
COVINGTON, RHONDA | 9/20/2006
VALLEY VIEW, TX
CROSS, SHERRY | 9/20/2006
TUCSON, AZ
CURTIS, ANITA | 9/20/2006
SEATTLE, WA
DAVIS, CAROL | 9/20/2006
SHAWSVILLE, VA
DEERING, TINIKA | 9/20/2006
MARTINSVILLE, VA
DELUNA, CELINDA | 9/20/2006
MCALLEN, TX
DEROUIN, STACEY | 9/20/2006
WARWICK, RI
DESCHAINE, TRACEY | 9/20/2006
MALVERN, PA
DIENST, DEBRA | 9/20/2006
LAKELAND, FL
DIXON, SHEMEKA | 9/20/2006
DALLAS, TX
DOWDY, SUMMER | 9/20/2006
STROUD, OK
DRAGON, SUSAN | 9/20/2006
NARRAGANSETT, RI
DUQUETTE, WILLIAM | 9/20/2006
PLYMOUTH, MA
ELLIS, DORIS | 9/20/2006
WILLIAMSBURG, VA
FARRELL, ANNIE | 9/20/2006
UNION SPRINGS, AL
FERNANDEZ, JULIE | 9/20/2006
SCOTTSDALE, AZ
FIMBRES, ANA | 9/20/2006
TUCSON, AZ
FLOWERS, MARY | 9/20/2006
TERRY, MS
FOX, JANET | 9/20/2006
ANNANDALE, VA
FRANKE, KEITH | 9/20/2006
CONVERSE, TX
GALLOWAY, CANDACE | 9/20/2006
TUPELO, MS
GARCIA, JESSE | 9/20/2006
SAN ANTONIO, TX
GARCIA, MARTINA | 9/20/2006
BULLHEAD CITY, AZ
GARDNER, LEAH | 9/20/2006
SPARKS, NV
GARNER, CURT | 9/20/2006
PHOENIX, AZ
GARNER, LAURA | 9/20/2006
TAR HEEL, NC
GILLILAND, STANLEY | 9/20/2006
OLIVE BRANCH, MS
GISH, AERIKA | 9/20/2006
OXNARD, CA
GODDARD, SHEILA | 9/20/2006
CHRISTIANSBURG, VA
GOTTSCHALL, MARK | 9/20/2006
WEST JORDAN, UT
GOUGH, SHANNON | 9/20/2006
LITTLETON, CO
GOULD-GATINEAU, JOAN | 9/20/2006
PHILADELPHIA, PA
GRAHAM, RODAWNA | 9/20/2006
YUKON, OK
GRIFFIN, SHARON | 9/20/2006
LAS VEGAS, NV
GROSSENBACHER, KATHI | 9/20/2006
BERN, KS
GUYER-PYLE, ASHLEY | 9/20/2006
STERLING, VA
HAIR, KELLEY | 9/20/2006
BOSSIER CITY, LA
HAMILTON, DARREL | 9/20/2006
GRAND PRAIRIE, TX
HANSFORD, MARYANNE | 9/20/2006
PUNTA GORDA, FL
HARMAN, AUDREY | 9/20/2006
HOUSTON, TX
HASSETT, MARY | 9/20/2006
WARWICK, RI
HAYNES, GERALYNN | 9/20/2006
LAS VEGAS, NV
HERNANDEZ, SUSAN | 9/20/2006
REVERE, MA
HOLLOWAY, MARGO | 9/20/2006
MAYSVILLE, KY
HORSMANN, ROBERT | 9/20/2006
SONOITA, AZ
HOWARD, KIMA | 9/20/2006
PROVIDENCE, RI
HUBBARD, ELLA | 9/20/2006
ORLANDO, FL
HUNTER, MELISSA | 9/20/2006
NEW CASTLE, IN
HUNTRESS-LEGERE, AMY | 9/20/2006
NEWTON, NH
JACKSON, YEVETTE | 9/20/2006
PHOENIX, AZ
JEAN-PHILLIPPE, GINA | 9/20/2006
CRANSTON, RI
JETER, RACHEL | 9/20/2006
GURDON, AR
JOHNSON, PEGGY | 9/20/2006
SHREVEPORT, LA
KASTANTIN, BRONY | 9/20/2006
WHEATLAND, IA
KEELEY, MARIE | 9/20/2006
MANCHESTER, NH
KERSH, SHIRLEY | 9/20/2006
JACKSON, MS
KILLEN, DAWN | 9/20/2006
SOMERDALE, NJ
KIM, STEVEN | 9/20/2006
HAMBURG, NY
KING, KELLI | 9/20/2006
WELLS RIVER, VT
KING, KRYSTAL | 9/20/2006
NAPLES, FL
KOROMA, ZAINAB | 9/20/2006
MESA, AZ
KRIGBAUM, BILLY | 9/20/2006
SHERIDAN, AR
KRUEGER, JONATHAN | 9/20/2006
GREELEY, CO
LEE, HA | 9/20/2006
LOS ANGELES, CA
LIBBY, CAROL | 9/20/2006
LAND O LAKES, FL
LICKLITER, DEBORAH | 9/20/2006
FERNANDINA BEACH, FL
LIMLAW, PATRICIA | 9/20/2006
HYDE PARK, VT
LOCKHOFF, RUTH | 9/20/2006
WESTMINSTER, CO
LYONS, PATRICIA | 9/20/2006
SPLENDORA, TX
MACIAS, FERNANDO | 9/20/2006
PHOENIX, AZ
MAIORIELLO, NICHOLAS | 9/20/2006
BETHLEHEM, PA
MANNING, SHERRI | 9/20/2006
ELBA, AL
MARTIN, JANET | 9/20/2006
FALLS CHURCH, VA
MCCREARY-HALL, ANN | 9/20/2006
SEFFNER, FL
MCFADDEN, SHAWN | 9/20/2006
GLENDALE, AZ
MCINTOSH, TERRELL | 9/20/2006
TULSA, OK
MCLAIN, JUDI | 9/20/2006
MERIDIAN, MS
METCALF, JAN | 9/20/2006
KENNESAW, GA
MITCHELL, DEBRA | 9/20/2006
ROYSE CITY, TX
MITCHELL, MEEGAN | 9/20/2006
HOUSTON, TX
MOON, CHAE | 9/20/2006
REDDING, CA
MOORE, KEITH | 9/20/2006
JACKSONVILLE, FL
MOOREFIELD, FRANK | 9/20/2006
GREEN COVE SPRING, FL
MUSIKABHUMMA, ANCHALEE | 9/20/2006
PIKESVILLE, MD
NASH, JACQUELINE | 9/20/2006
PHOENIX, AZ
OBENG, ESTHER | 9/20/2006
ALEXANDRIA, VA
OOST, RICHARD | 9/20/2006
NAPLES, FL
OROZCO, MELISSA | 9/20/2006
INDIO, CA
OSBORNE, DEBORAH | 9/20/2006
GUSTINE, CA
OSTWALD, ALICE | 9/20/2006
WHITEHOUSE STATION, NJ
OVERSTREET, BETTY | 9/20/2006
PALATKA, FL
PARRA, SALLEY | 9/20/2006
ISSAQUAH, WA
PARTIN, LISA | 9/20/2006
PINEVILLE, KY
PAVLOV, ANDREY | 9/20/2006
TUSTIN, CA
PAYNE, JOHN | 9/20/2006
LOUISVILLE, KY
PEOPLES, ASHLEY | 9/20/2006
BENTON, AR
PEREZCASSAR, JOSE | 9/20/2006
LAKE MARY, FL
PESCIOTTA, ROY | 9/20/2006
TOMS RIVER, NJ
PHILLIPS, ROBIN | 9/20/2006
ALVARADO, TX
PITTS, TAMMY | 9/20/2006
VOSSBURG, MS
POSTL, PATRICIA | 9/20/2006
FAYETTEVILLE, NC
PREUSS, SONIA | 9/20/2006
SCOTTSDALE, AZ
PRINCE, PHOEBE | 9/20/2006
JACKSONVILLE, FL
RAINEY, IRENE | 9/20/2006
GOULD, AR
RAMIREZ, SABRINA | 9/20/2006
LOSANTVILLE, IN
READ, KATHLEEN | 9/20/2006
KOUTS, IN
REESE, JOSEPH | 9/20/2006
ALBUQUERQUE, NM
RICHTER, PATRICIA | 9/20/2006
PALM BEACH GARDENS, FL
ROBERTSON, SHERRY | 9/20/2006
AVONDALE, AZ
RODRIGUEZ, DANA | 9/20/2006
CENTRALIA, WA
RUIZ, GAYLYLNN | 9/20/2006
FRUITA, CO
SAWYER, HEATHER | 9/20/2006
ROGERSVILLE, TN
SCHAIER, ARON | 9/20/2006
MARBLEHEAD, MA
SCHIEFERDECKER, STEPHANIE | 9/20/2006
STAFFORD, VA
SHARMA, PUJA | 9/20/2006
UNION CITY, CA
SHAW, STACY | 9/20/2006
WABASH, IN
SIMPSON, AMY | 9/20/2006
HOPKINSVILLE, KY
SKERRITT, PATRICIA | 9/20/2006
HUNTER, NY
SLAGLE-ELLIOTT, KAREN | 9/20/2006
CHESAPEAKE, VA
SMOLARSKY, JASON | 9/20/2006
DEER PARK, NY
STAINBACK, PATRICK | 9/20/2006
AURORA, CO
STELL, VIRGINIA | 9/20/2006
HOT SPRINGS, AR
SUGGS, FORREST | 9/20/2006
SCOTTSDALE, AZ
TANDRON, JULIO | 9/20/2006
MIAMI, FL
TAYLOR, CHRISTOPHER | 9/20/2006
WEWAHITCHKA, FL
TAYLOR, JENNIFER | 9/20/2006
HORN LAKE, MS
THOMAS, FREDRICA | 9/20/2006
PHOENIX, AZ
THOMAS, THOMAS | 9/20/2006
BRADENTON, FL
THORNSBURG, LEAH | 9/20/2006
SAN ANTONIO, TX
TOUPS, CAROL | 9/20/2006
HOUMA, LA
TRENT, ELAINE | 9/20/2006
CLINTON, TN
TRIMBATH, MELISSA | 9/20/2006
REPUBLIC, PA
TRUDGEN, ANITA | 9/20/2006
JACKSBORO, TX
ULRICH, CAROL | 9/20/2006
HARDIN, KY
VACCARO, AUDREY | 9/20/2006
NATURAL BRIDGE STATION, VA
VIGIL, GERALD | 9/20/2006
CLEARFIELD, UT
VIKEN, KATHLEEN | 9/20/2006
CAMAS, WA
VUKODER, SHERRY | 9/20/2006
E MIDDLEBURY, VT
WALDROP, CYNTHIA | 9/20/2006
ADDISON, TX
WILKINSON, PHYLLIS | 9/20/2006
NEPTUNE, NJ
WILLIAMS, CRYSTAL | 9/20/2006
GEORGETOWN, TX
WILSON, DEBRA | 9/20/2006
RICHMOND, VA
WILSON, KENT | 9/20/2006
SANTA MARIA, CA
WILTON, GARY | 9/20/2006
NAPLES, FL
WOGAMAN, MERRI | 9/20/2006
NORTH PORT, FL
WOOD, CAROLYN | 9/20/2006
ANGIER, NC
WOODARD, SHAWN | 9/20/2006
LAS VEGAS, NV
WORKS, WENDY | 9/20/2006
JONESBORO, AR
WULF, ERIN | 9/20/2006
MESA, AZ
YOUNG, PENNY | 9/20/2006
BULLHEAD CITY, AZ
FEDERAL/STATE EXCLUSION/SUSPENSION
CUESTAS, LUZ | 9/20/2006
UNIONDALE, NY
DURNIEN, EDWARD | 9/20/2006
KEANSBURG, NJ
FALOWO, YETUNDE | 9/20/2006
N. PLAINFIELD, NJ
JOHNSON, ROBERT | 9/20/2006
ASBURY PARK, NJ
RIVERA, JOSSELIN | 9/20/2006
CAMDEN, NJ
WILSON, TASHA | 9/20/2006
SALEM, NJ
OWNED/CONTROLLED BY EXCLUDED/CONVICTED INDIVIDUAL
A AND A ORTHOPEDICS, INC | 9/20/2006
MIAMI, FL
STEVEN J KUNZ, DC, PC | 7/17/2006
FAIRBANKS, AK
SUZANNE ABERGEL, DDS, PA | 9/20/2006
MIAMI, FL
DEFAULT ON HEAL LOAN
ALLEN, DANIEL | 9/20/2006
GRASS VALLEY, CA
BARONE, ALICE | 9/20/2006
BRIDGEPORT, CT
BIXBY, CHARLES | 9/20/2006
SAN FRANCISCO, CA
DAVIS, KAREN | 9/20/2006
LONE TREE, CO
DEBOLT, VICKI | 9/20/2006
ROSWELL, NM
HEARD, GEOFFREY | 9/20/2006
REDWOOD CITY, CA
KRYSTOSIK, JAMES | 9/20/2006
MANTUA, OH
MCDONALD, VICTORIA | 8/1/2006
BLUFFTON, SC
MITCHELL, ALAN | 9/20/2006
ST LOUIS, MO
MOON, BETH | 9/20/2006
PAINESVILLE, OH
NGUYEN, MICHAEL | 9/20/2006
MILPITAS, CA
OHLER, JOY | 9/20/2006
RIDGELEY, WV
SMITH, MERVYN | 9/20/2006
GRAND RAPIDS, MI
SMITH-TRUAX, KIM | 9/20/2006
HILLIARD, OH
STYCHNO, CHRISTOPHER | 8/1/2006
WARREN, OH

Dated: September 6, 2006.
Maureen R. Byer,
Director, Exclusions Staff, Office of Inspector General.

[FR Doc. E6-15237 Filed 9-13-06; 8:45 am]

BILLING CODE 4152-01-P